FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
Transactions Granted Early Termination, 03/19/2002
20020526 | Provident Financial Group | Pomeroy Computer Resources, Inc | Technology Integration Financial Services, Inc. TIFS Advisory Services, Inc.
20020553 | American Capital Strategies, Ltd | Mr. Peter J. and Caroline Striano | Uni-Data and Communications, Inc. Uni-Data Holdings (No. 1), Inc. Uni-Data Holdings (No. 2), Inc. Unity Electric Co., Inc.
20020555 | Group 4 Falck A/S | George R. Wackenhut | The Wackenhut Corporation. Wackenhut Corrections Corporation.
Transactions Granted Early Termination, 03/22/2002
20020491 | OCM Principal Opportunities Fund II, LP | Philip F. Anschutz | Regal Entertainment Group.
20020493 | Greenwich Street Capital Partners II, L.P | Philip F. Anschutz | Regal Entertainment Group.
20020507 | Massachusetts Mutual Life Insurance Company | Thomas G. Macrini | Gulf Investment Management, Inc.
20020508 | Sun Life Financial Services of Canada Inc | Clarica Life Insurance Company | Clarica Life Insurance Company.
20020510 | University of Alabama Health Services Foundation, P.C | Bessemer Carraway Medical Center | Bessemer Carraway Medical Center.
20020515 | FPL Group, Inc | Innogy Holdings plc | Delaware Mountain Wind Farm, L.P. NWP Indian Mesa Wind Farm L.P. Pennsylvania Wind Farms LLC.
20020523 | First Reserve Fund IX, L.P | Pride International Inc | Pride International Inc.
20020527 | Health Management Associates, Inc | Manor Care, Inc | HCR Manorcare Mesquite, L.P.
20020528 | Adobe Systems Incorporated | Accelio Corporation | Accelio Corporation.
20020538 | Legato Systems, Inc. | OTG Software, Inc | OTG Software, Inc.
20020539 | Richard A. Kay | Legato Systems, Inc | Legato Systems, Inc.
20020546 | St. Luke's Episcopal Health System | The Methodist Health Care System | KS Management Services, L.L.P.
20020550 | Esprit Holdings Limited | Esprit Holdings, Inc | Espirt de Corp.
20020556 | Deutsche Bank AG | RoProperty Holding B.V | RoPro U.S. Holding, Inc.
Transactions Granted Early Termination, 03/25/2002
20020439 | Quest Diagnostics Incorporated | Golder Thoma Cressey, Rauner Fund V, L.P | American Medical Laboratories, Incorporated.
20020514 | United Technologies Corporation | Eric A. Dermond | Derco Holding, Ltd. Tower Avenue Holdings, LLP
20020521 | Sumner M. Redstone | Young Broadcasting Inc | Fidelity Broadcasting, Inc. Young Broadcasting of Los Angeles, Inc.
20020532 | First Data Corporation | SunTrust Banks, Inc | SunTrust Banks, Inc.
20020557 | Scholastic Corporation | J.R. Shaw | Klutz.
20020563 | Sanofi-Synthelabo | Pharmacia Corporation | Lorex Pharmaceuticals.
20020564 | ICN Pharmaceuticals, Inc | Circe Biomedical, Inc | Circe Biomedical, Inc.
20020572 | Philip H. Knight | Robert M. Hurley and Shelley A. Hurley | Hurley International LLC.
20020577 | Automatic Data Processing, Inc | Digital Motorworks Holdings, Inc | Digital Motorworks Holdings, Inc.
20020582 | Value Click, Inc | Be Free, Inc | Be Free, Inc.
Transactions Granted Early Termination, 03/26/2002
20020540 | First Data Corporation | Paymap Inc | Paymap Inc.
20020554 | Entergy Corporation | Vermont Yankee Nuclear Power. Corporation | Vermont Yankee Nuclear Power Corporation.
20020565 | Carlyle Partners Ill, L.P | Sippican, Inc | Polaris Contract Manufacturing, Inc. Sippican Ocean Systems, Inc. Sippican, Inc.
20020568 | Intersil Corporation | Elantec Semiconductor, Inc | Elantec Semiconductor, Inc.
Transactions Granted Early Termination, 03/27/2002
20020561 | Gerald W. Schwartz | James J. Loeks & Barrie Lawson Loeks | Loeks-Star Partners.
20020583 | GUS plc | Homestore.com, Inc | Homestore Consumer Information Corp.
Transactions Granted Early Termination, 03/29/2002
20020403 | Reuters Group PLC | Talarian Corporation | Talarian Corporation.
20020571 | Executive Holdings, L.P | Cagle's, Inc | Cagle Foods JV, L.L.C.
20020574 | Cardinal Health, Inc | Alfred G. Childers | Magellan Laboratories Incorporated.
20020575 | Cardinal Health, Inc | W. Lowry Caudill | Magellan Laboratories Incorporated.
20020585 | Retirement Residences Real Estate Investment Trust | CPL Long Term Care Real Estate Investment Trust | CPL Long Term Care Real Estate Investment Trust.
20020586 | Harvest/AMI Holding Inc | Associated Materials Incorporated | Associated Materials Incorporated.
20020588 | AOL Time Warner Inc | AOL Time Warner Inc | Staten Island Cable, LLC.
20020589 | Dominion Resources, Inc | Mirant Corporation | Mirant State Line Ventures, Inc.
20020590 | InterCept, Inc | Internet Billing Company, Ltd | Internet Billing Company, Ltd.
20020591 | Cox Enterprises, Inc | Cox Enterprises, Inc | TWC Cable Partners.
20020595 | Jones Apparel Group, Inc | Moises Khafif | Gloria Vanderbilt Apparel Corp.
20020596 | Jones Apparel Group, Inc | Hendrik J. Keilman | Gloria Vanderbilt Trademark B.V.
20020597 | Long Point Capital Fund, L.P | American Architectural Products Corporation | Eagle & Taylor Company.
20020598 | Grupo Dragados, S.A | Hollandsche Beton Groep, NV | Hollandsche Beton Groep, NV
20020603 | Clayton, Dubilier & Rice Fund V Limited Partnership | Edward J. Davidson | CMSR Reinsurance, Ltd.; Cooperative Resources Services, Inc. Cooperative Mortgage Services, Inc.; CRS Acquisition Corp. Corporate Transfer Services, Inc.; CRS Title Agency, Inc. ProSource Properties Ltd.; U.S. Relocation Services, Inc.

FOR FURTHER INFORMATION CONTACT: Sandra M. Peay or Chandra L. Kennedy, Contact Representatives, Federal Trade Commission, Premerger Notification Office, Bureau of Competition, Room 303, Washington, DC 20580, (202) 326-3100.

By Direction of the Commission
Donald S. Clark,
Secretary.

[FR Doc. 02-9273 Filed 4-16-02; 8:45 am]

BILLING CODE 6750-01-M